DEPARTMENT OF ENERGY

Federal Energy Regulatory Commission

[Project No. 13218-000; Project No. 13217-000]

Calligan Power, LLC; Renewable Energy Development, LLC; Notice of Competing Preliminary Permit Applications Accepted for Filing and Soliciting Comment, Motions To Intervene, and Competing Applications

December 9, 2008.

Calligan Power, LLC , and Renewable Energy Development, LLC filed applications, on May 1, 2008, pursuant to section 4(f) of the Federal Power Act, proposing to study the feasibility of the Calligan Project, to be located on Calligan Creek, in King County, Washington.

The proposed Calligan Project by Calligan Power, LLC consists of: (1) A proposed 65-foot-long, 8-foot-high weir diversion structure; (2) a proposed reservoir having a surface area of 0.3 acres and a storage capacity of 1 acre-foot and normal water surface elevation of 2215 feet National Geographic Vertical Datum (NGVD); (3) a proposed 5,200-foot-long, 30-inch-diameter steel penstock, (4) a proposed powerhouse containing one new generating unity having an installed capacity of 4.5 megawatts; (5) a proposed 22,500-foot-long, 34.5 kilovolt transmission line; and (6) appurtenant facilities. The proposed Calligan Project would have an average annual generation of 17 gigawatt-hours..

The proposed Calligan Project by Renewable Energy Development, LLC consists of: (1) A proposed 60-foot-long, 9-foot-high concrete diversion structure; (2) a proposed reservoir having a surface area of 0.4 acres and a storage capacity of 1 acre-foot and normal water surface elevation of 2221 feet mean sea level; (3) a proposed 6,400-foot-long, 40-inch-diameter steel penstock, (4) a proposed powerhouse containing one new generating unity having an installed capacity of 7 megawatts; (5) a proposed 22,500-foot-long, 34.5 kilovolt transmission line; and (6) appurtenant facilities. The proposed Calligan Project would have an average annual generation of 25 gigawatt-hours..

Applicants Contact: For Calligan Power, LLC: Mr. Jason M. Hines, Black Brook Environmental, Inc., 100 Harris Avenue, Bellingham, WA 98225, (360) 510-1763. For Renewable Energy Development, LLC: Laurin Schweet, Renewable Energy Development, LLC, P.O. Box 50061, Bellevue, WA 98015, (206) 551-1075.

FERC Contact: Robert Bell, (202) 502-6062.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13218 or P-13217) in the docket number field to access the document. For assistance, call toll-free 1-866-208-3372.

Kimberly D. Bose,
Secretary.

[FR Doc. E8-29858 Filed 12-16-08; 8:45 am]

BILLING CODE 6717-01-P